OFFICE OF THE UNITED STATES TRADE REPRESENTATIVE

Performance Review Board Membership

AGENCY: Office of the United States Trade Representative.

ACTION: Notice.

SUMMARY: This notice announces the Office of the United States Trade Representative (USTR) staff members selected to serve on the Senior Executive Service (SES) and Senior Level (SL) Performance Review Board (PRB). This notice supersedes all previous PRB membership notices.

DATES: The staff members in this notice will begin serving as PRB members on February 11, 2022.

FOR FURTHER INFORMATION CONTACT: Cassie Ender, Human Capital Specialist, Office of Human Capital and Services, at (202) 395-7360 or Cassie.L.Galla@ustr.eop.gov.

SUPPLEMENTARY INFORMATION: USTR is required (see 5 U.S.C. 4314(c)) to establish a PRB to review and make recommendations to the U.S. Trade Representative for final approval of the performance rating, performance-based pay adjustment, and performance award for each incumbent SES and SL. The following staff members have been selected to serve on USTR's PRB:

Chair: Bill Jackson, Assistant U.S. Trade Representative for Textile Affairs

Member: Dawn Shackleford, Assistant U.S. Trade Representative for Southeast Asia and the Pacific

Member: Dan Mullaney, Assistant U.S. Trade Representative for Europe and the Middle East

Member: Julie Callahan, Assistant U.S. Trade Representative for Agricultural Affairs

Member: Juan Millan, Assistant U.S. Trade Representative for Monitoring and Investment

Fred Ames,
Assistant U.S. Trade Representative for Administration, Office of the United States Trade Representative.

[FR Doc. 2022-02999 Filed 2-10-22; 8:45 am]

BILLING CODE 3390-F2-P